DEPARTMENT OF COMMERCE

National Oceanic and Atmospheric Administration

RIN 0648-XH036

Pacific Fishery Management Council; Public Meeting

AGENCY: National Marine Fisheries Service (NMFS), National Oceanic and Atmospheric Administration (NOAA), Commerce.

ACTION: Notice of a public meeting webinar.

SUMMARY: The Pacific Fishery Management Council's (Pacific Council's) Scientific and Statistical Committee's (SSC's) Economics Subcommittee will hold a webinar to review new economic analyses in three draft coho rebuilding plans. The SSC Economics Subcommittee webinar is open to the public. Public comments during the webinar will be received from attendees at the discretion of the SSC Economics Subcommittee chair.

DATES: The SSC Economics Subcommittee webinar will commence at 1 p.m. PDT, Tuesday, June 4, 2019 and continue until 4 p.m. or as necessary to complete business for the day.

ADDRESSES: The meeting will be held via webinar. A public listening station is available at the Pacific Council office (address below). To attend the webinar (1) join the meeting by visiting this link http://www.gotomeeting.com/online/webinar/join-webinar, (2) enter the Webinar ID: 800-770-499, and (3) enter your name and email address (required). After logging in to the webinar, please (1) dial this TOLL number 1-562-247-8321, (2) enter the attendee phone audio access code 176-615-134 when prompted, and (3) enter your unique audio phone pin (shown after joining the webinar). Note: We have disabled Mic/Speakers as an option and require all participants to use a telephone or cell phone to participate.

Technical Information and System Requirements

PC-based attendees are required to use Windows® 7, Vista, or XP; Mac®-based attendees are required to use Mac OS® X 10.5 or newer; Mobile attendees are required to use iPhone®, iPad®, Android™ phone or Android tablet (See the https://www.gotomeeting.com/webinar/ipad-iphone-android-webinar-apps). You may send an email to Mr. Kris Kleinschmidt at Kris.Kleinschmidt@noaa.gov or contact him at (503) 820-2280, extension 411 for technical assistance.

Council address: Pacific Fishery Management Council, 7700 NE Ambassador Place, Suite 101, Portland, OR 97220.

FOR FURTHER INFORMATION CONTACT: Mr. John DeVore or Ms. Robin Ehlke, Pacific Council; telephone: (503) 820-2280.

SUPPLEMENTARY INFORMATION: The primary objective of the SSC Economics Subcommittee webinar is to review new analyses of economic impacts associated with alternatives in three draft rebuilding plans for Queets River, Snohomish River, and Strait of Juan de Fuca Coho. Other items on the Pacific Council's June 2019 agenda may be discussed, but no management actions will be decided in this webinar. The SSC Economics Subcommittee members' role will be development of recommendations and a report for consideration by the SSC and Pacific Council at the June 2019 meeting in San Diego, CA.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt, (503) 820-2411, at least 10 business days prior to the meeting date.

Dated: May 16, 2019.
Rey Israel Marquez,
Acting Deputy Director, Office of Sustainable Fisheries, National Marine Fisheries Service.

[FR Doc. 2019-10557 Filed 5-20-19; 8:45 am]

BILLING CODE 3510-22-P